ENVIRONMENTAL PROTECTION AGENCY

[EPA-HQ-OPP-2010-0014; FRL-8887-1]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled, only if such sale, distribution, or use is consistent with the terms as described in the final order.

DATES: Comments must be received on or before March 5, 2012.

ADDRESSES: Submit your comments, identified by the docket identification (ID) number EPA-HQ-OPP-2010-0014, by one of the following methods:

• Federal eRulemaking Portal: http://www.regulations.gov. Follow the online instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. ATTN: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Wahington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT:

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 32 pesticide products registered under FIFRA section 3 or 24(c). These registrations are listed in sequence by registration number, (or company number and 24(c) number) in Table 1 of this unit.

Unless the Agency determines that there are substantive comments that warrant further review of the requests, or the registrants withdraw their requests, EPA intends to issue an order in the Federal Register cancelling all of the affected registrations.

Table 1—Registrations With Pending Requests for Cancellation
Registration No. | Product name | Chemical name
000264-00438 | Bronate Herbicide | MCPA,2-ethylhexyl ester, Bromoxynil octanoate.
000264-00477 | Buctril + Atrazine Herbicide | Bromoxynil octanoate, Atrazine.
000264-00586 | Sedagri Batril 20W Herbicide | Bromoxynil octanoate.
000264-00650 | Silverado Herbicide | Fenoxaprop-p-ethyl.
000264-00699 | Rhino Brand Herbicide | MCPA,2-ethylhexyl ester, Bromoxynil octanoate, Hepatonic acid, 2,6-dibromo-4-cyanophenyl ester.
000264-00799 | Weco Max Brand Herbicide | 2-4-D, 2-ethylhexyl ester, Hepatonic acid, 2,6-dibromo-4-cyanophenyl ester, Bromoxynil octanoate.
000264-00803 | Spiroxamine Technical | 1,4-Dioxaspiro? 4,5Udecane-2-methanamine,8-(1,1-dimethylethyl)-N-ethyl-N-propyl-.
000264-00804 | Accrue Fungicide | 1,4-Dioxaspiro? 4,5Udecane-2-methanamine,8-(1,1-dimethylethyl)-N-ethyl-N-propyl-.
000264-00842 | Silverado LQ Wild Oat Herbicide | Mesosulfuron-methyl.
000264-01071 | Wolverine Power Pak | Hepatonic acid, 2,6-dibromo-4-cyanophenyl ester, Bromoxynil octanoate, Puyrasulfotole Technical; Fenoxaprop-p-ethyl.
001043-00060 | T.B. Q. Germicidal Detergent | Alkyl* dimethyl benzyl ammonium chloride *(50%C14, 40%C12, 10%C16).
001719-00043 | Cop-R-Tox Wood Preservative | Copper naphthenate.
004822-00394 | Raid Yard Guard Outdoor Fogger Formula VII | Bioallethrin, Permethrin.
008278-00004 | Metro That's It Dry | Metaldehyde.
009444-00138 | Time-Mist Metered Insecticide II | MGK 264, Piperonyl butoxide, Pyrethrins.
009444-00159 | Purge After Hours Plus DS | MGK 264, Piperonyl butoxide, Pyrethrins.
053883-00174 | Propicinazole 14.3 | Propiconazole.
062451-00003 | Ant Guard for Hummingbird Feeders | Piperonyl butoxide, Pyrethrins.
071992-00001 | Cunap-8 Wood Preservative | Copper naphthenate.
071992-00002 | Cunap-2 | Copper naphthenate.
071992-00003 | CU Nap-5W Wood Preservative | Copper naphthenate.
086203-00013 | Dinotefuran TK | Dinotefruran.
086203-00017 | Dinotefuran 20SG TK | Dinotefruran.
CA050014 | Admire Pro Systemic Protectant | Imidacloprid.
MN070007 | Dinotefuran 20% Turf, Ornamental & Vegetable Transplant | Dinotefruran.
NC910011 | Drexel Sucker Plucker Concentrate | Alcohols, Cx—Cxx.
OH080002 | Tree-Age | Emamectin benzoate.
OR100006 | Dual Magnum Herbicide | S-Metolachlor.
SC910006 | Drexel Sucker Plucker Concentrate | Alcohols, Cx—Cxx.
VA910011 | Drexel Sucker Plucker Concentrate | Alcohols, Cx—Cxx.
WA060012 | DuPont Velpar DF Herbicide | Hexazinone.
WA060013 | DuPont Velpar L Herbicide | Hexazinone.

Table 2 of this unit includes the names and addresses of record for all registrants of the products in Table 1 of this unit, in sequence by EPA company number. This number corresponds to the first part of the EPA registration numbers of the products listed in this unit.

Table 2—Registrants Requesting Voluntary Cancellation
EPA Co. No. | Company name and address
1043 | Steris Corporation, P.O. Box 147, St. Louis, MO 63166-0147.
1719 | Mobile Paint Manufacturing Company Inc., P.O. Box 717, Theodore, AL 36582.
4822 | S.C. Johnson & Son Inc., 1525 Howe St., Racine, WI 53403.
8278 | Metro Biological Laboratory, 583 Canyon Rd., Redwood City, CA 94062.
9444 | Waterbury Companies Inc., 129 Calhoun St., P.O. Box 640, Independence, LA 70443.
53883 | Control Solutions, Inc., 5903 Genoa-Red Bluff Road, Pasadena, TX 77507-1041.
62451 | Lineguard Inc., Attn: E.H. Roberts, P.O. Box 839, Elyria, OH 44036.
71992 | Merichem Company, 5455 Old Spanish Trail, Houston, TX 77023.
86203; MN070007 | Mitsui Chemicals Agro, Inc., AGENT: Landis International, Inc., P.O. Box 5126, Valdosta, GA 31603-5126.
264; CA050014 | Bayer CropScience LP, 2 T.W. Alexander Drive, P.O. Box 12014, Research Triangle Park, NC 27709.
NC910011; SC910006; VA910011 | Drexel Chemical Company, 1700 Channel Avenue, P.O. Box 13327, Memphis,TN 38113-0327.
OH080002; OR100006 | Syngenta Crop Protection, LLC, D/B/A Syngenta Crop Protection, Inc., P.O. Box 18300, Greensboro, NC 27419-8300.
WA060012; WA060013 | E.I. DuPont De Nemours and Co., Inc. (S300/419), ATTN: Manager, US Registration, DuPont Crop., Protection, 1007 Market Street, Wilmington, DE 19898-0001.

III. What is the Agency's Authority for Taking This Action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

List of Subjects

Environmental protection, Pesticides and pests.

Dated: August 26, 2011.
Peter Caulkins,
Acting Director, Pesticide Re-evaluation Division, Office of Pesticide Programs.

[FR Doc. 2011-22847 Filed 9-6-11; 8:45 am]

BILLING CODE 6560-50-P